FEDERAL COMMUNICATIONS COMMISSION

47 CFR Part 73

[DA 02-1413; MB Docket No. 02-143; RM-10392]

Radio Broadcasting Services; Lebanon, Speedway, IN

AGENCY: Federal Communications Commission.

ACTION: Proposed rule.

SUMMARY: This document requests comment on a petition for rulemaking filed on behalf of Radio One, licensee of Station WYJZ(FM), Lebanon, Indiana, proposing to reallot Channel 265A from Lebanon, Indiana, to Speedway, Indiana, and modify the license of Station WYJZ(FM) to reflect the changes. Specific questions raised concern population losses and gains, whether the reallotment will result in a preferential arrangement of allotments and the independence of Speedway as a community within the Indianapolis Urbanized Area. Channel 265A can be allotted at petitioner's requested site 4.9 kilometers (3.0 miles) southeast of the community at coordinates NL 39-46-10 and WL 86-13-45.

DATES: Comments must be filed on or before August 5, 2002, and reply comments on or before August 20, 2002.

ADDRESSES: Secretary, Federal Communications Commission, Washington, DC 20554. In addition to filing comments with the FCC, interested parties should serve the petitioner, as follows: J. Richard Carr, 5528 Trent Street, Chevy Chase, MD 20815.

FOR FURTHER INFORMATION CONTACT: Victoria M. McCauley, Media Bureau, (202) 418-2180.

SUPPLEMENTARY INFORMATION: This is a synopsis of the Commission's Notice of Proposed Rule Making, MB Docket No. 02-143, adopted, June 5, 2002, and released June 14, 2002. The full text of this Commission decision is available for inspection and copying during normal business hours in the FCC's Reference Information Center at Portals II, CY-A257, 445 Twelfth Street, SW., Washington, DC. This document may also be purchased from the Commission's duplicating contractors, Qualex International, Portals II, 445 12th Street, SW., Room CY-B402, Washington, DC 20554, telephone 202-863-2893, or via e-mail qualexint@aol.com.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Indiana, is amended by removing Lebanon, Channel 265A, and adding Speedway, Channel 265A.

Federal Communications Commission.
John A. Karousos,
Assistant Chief, Audio Division, Office of Broadcast License Policy, Media Bureau.

[FR Doc. 02-15673 Filed 6-20-02; 8:45 am]

BILLING CODE 6712-01-P